DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Norfolk Southern Corporation

(Docket Number FRA-2008-0042)

The Norfolk Southern Corporation (NS) seeks a waiver of compliance from certain provisions of 49 CFR Part 232, Brake System Safety Standards for Freight and Other Non-Passenger Trains and Equipment. Specifically, NS is requesting a temporary waiver from the requirement to display in real-time, in the cab of the locomotive, the total train dynamic brake retarding force available in the train, as prescribed in 49 CFR 232.109(g)(2), on locomotives placed in service for the first time on or after October 1, 2007. The functionality of this requirement is commonly referred to as the “Dynamic Brake Status Reporting” (DBSR).

NS accepted delivery of 50 new ES40DC locomotives from General Electric, which were equipped with DBSR systems as specified in the Association of American Railroads (AAR) Standard S-5509 (S-5509). At that time, S-5509 required the DBSR systems to operate on ANSI/EIA 709.2 (Echelon PL-22) communication frequency on the C-band, which is the same communication band used by the Electronically Controlled Pneumatic (ECP) brake systems. On February 14, 2008, AAR modified S-5509 by requiring the DBSR systems to use a communication frequency on A-band, instead of the C-band, to eliminate any interference problems the two systems could encounter using the same frequency band. This modification applies to all new locomotives, as well as a retrofit of locomotives presently equipped with DBSR systems employing the C-band.

NS currently operates trains equipped with ECP brake technology that utilize many of the 50 locomotives that were equipped with the DBSR systems using the C-band communication configuration. These trains have experienced communication interference problems due to the two systems using the same C-band channel. Tests have shown that electrically disconnecting the DBSR system from the affected locomotives causes the communication interference to subside. Therefore, NS requests a temporary waiver of § 232.109(g)(2) in order to electrically disconnect the DBSR system until the locomotives are modified with the new A-band DBSR system. In addition to these locomotives being equipped with functioning acceleration/deceleration displays per § 232.109(h)(2), NS will continue to inform the locomotive engineer of the operational status of dynamic brakes on all locomotives, pursuant to § 232.109(a) and (i). The locomotive numbers for this waiver request are NS 7670-7719.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0042) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal holidays.

Communications received within 20 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 29, 2008.
Grady C. Cothen, Jr.,
Deputy Associate Administrator for Safety Standards and Program Development.

[FR Doc. E8-12407 Filed 6-3-08; 8:45 am]

BILLING CODE 4910-06-P